NATIONAL FOUNDATION ON THE ARTS AND THE HUMANITIES

National Endowment for the Arts; Arts Advisory Panel

Pursuant to Section 10(a)(2) of the Federal Advisory Committee Act (Pub. L. 92-463), as amended, notice is hereby given that nine meetings of the Arts Advisory Panel to the National Council on the Arts will be held at the Nancy Hanks Center, 1100 Pennsylvania Avenue, NW., Washington, DC 20506 as follows (ending times are approximate):

State and Regional/Arts Education (review of State Arts Agency Partnership Agreements): January 5-6, 2011 in Room 716. This meeting, from 9 a.m. to 10:15 a.m. and from 12:30 p.m. to 6 p.m. on January 5th and from 9 a.m. to 1:30 p.m. on January 6th, will be open.

Arts Education (application review): January 6, 2011 in Room 716. This meeting, from 1:30 p.m. to 2 p.m., will be closed.

Media Arts (application review): January 11-13, 2011 in Room 730. This meeting, from 10 a.m. to 5:45 p.m. on January 11th, from 9 a.m. to 6 p.m. on January 12th, and from 9 a.m. to 4 p.m. on January 13th, will be closed.

Folk & Traditional Arts (review of nominations): January 11-14, 2011 in Room 716. A portion of this meeting, from 11 a.m. to 12 p.m. on January 14th, will be open to the public for policy discussion. The remainder of the meeting, from 8:30 a.m. to 5:30 p.m. on January 11th, from 9 a.m. to 5:30 p.m. on January 12th—13th, and from 9 a.m. to 11 a.m. on January 14th, will be closed.

State and Regional (review of State Arts Agency Partnership Agreements): January 19-20, 2011 in Room 716. This meeting, from 9:30 a.m. to 6 p.m. on January 19th and from 9 a.m. to 4 p.m. on January 20th, will be open.

State and Regional (review of Regional Partnership Agreements): January 20, 2011 in Room 716. This meeting, from 4:30 p.m. to 5:30 p.m., will be open.

State and Regional/Folk and Traditional Arts (review of State Arts Agency Partnership Agreements): January 21, 2011 in Room 716. This meeting, from 9 a.m. to 5:30 p.m., will be open.

Music (review of nominations): January 25, 2011, by teleconference. This meeting, from 3 p.m. to 3:55 p.m., will be closed.

Music (review of nominations): January 25, 2011, by teleconference. This meeting, from 4 p.m. to 5 p.m., will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: December 8, 2010.
Kathy Plowitz-Worden,
Panel Coordinator, Panel Operations, National Endowment for the Arts.

[FR Doc. 2010-31156 Filed 12-10-10; 8:45 am]

BILLING CODE 7537-01-P